DEPARTMENT OF HOMELAND SECURITY

Federal Emergency Management Agency

[Docket ID FEMA-2010-0032]

Federal Radiological Preparedness Coordinating Committee

AGENCY: Federal Emergency Management Agency, DHS.

ACTION: Notice of public meeting.

SUMMARY: The Federal Radiological Preparedness Coordinating Committee (FRPCC) is holding a public meeting on January 20, 2011 in Arlington, VA.

DATES: The meeting will take place on January 20, 2011. The session open to the public will be from 9 a.m. EST to 10 a.m. EST. Send written statements and requests to make oral statements to the contact person listed under the FOR FURTHER INFORMATION CONTACT caption by close of business January 14, 2011.

ADDRESSES: The meeting will be held at the Crystal City Marriott at Reagan National Airport located at 1999 Jefferson Davis Highway, Arlington, VA 22202, in Salon E & F.

FOR FURTHER INFORMATION CONTACT: Timothy Greten, FRPCC Executive Secretary, DHS/FEMA, 1800 South Bell Street—CC847, Mail Stop 3025, Arlington, VA 20598-3025; telephone (202) 646-3907; fax (703) 305-0837; or e-mail timothy.greten@dhs.gov.

SUPPLEMENTARY INFORMATION: The role and functions of the Federal Radiological Preparedness Coordinating Committee (FRPCC) are described in 44 CFR 351.10(a) and 351.11(a). The FRPCC is holding a public meeting on January 20, 2011, from 9 a.m. EST to 10 a.m. EST, at the Crystal City Marriott at Reagan National Airport located at 1999 Jefferson Davis Highway, Arlington, VA 22202, in Salon E & F. Please note that the meeting may close early. This meeting is open to the public. Public meeting participants must pre-register to be admitted to the meeting. To pre-register, please provide your name and telephone number by close of business on January 14, 2011, to the individual listed under the FOR FURTHER INFORMATION CONTACT caption.

The tentative agenda for the FRPCC meeting includes: (1) Introductions, (2) Old Business, and (3) Radiological Emergency Preparedness (REP) Program Manual Implementation Update. The FRPCC Chair shall conduct the meeting in a way that will facilitate the orderly conduct of business. Reasonable provisions will be made, if time permits, for oral statements from the public of not more than five minutes in length. Any member of the public who wishes to make an oral statement at the meeting should send a written request for time by close of business on January 14, 2011, to the individual listed under the FOR FURTHER INFORMATION CONTACT caption. Any member of the public who wishes to file a written statement with the FRPCC should provide the statement by close of business on January 14, 2011, to the individual listed under the FOR FURTHER INFORMATION CONTACT caption.

Information on Services for Individuals With Disabilities

For information on facilities or services for individuals with disabilities or to request special assistance at the meeting, please write or call the individual listed under the FOR FURTHER INFORMATION CONTACT caption as soon as possible.

Authority: 44 CFR 351.10(a) and 351.11(a).

Timothy W. Manning,
Deputy Administrator, Protection and National Preparedness, Department of Homeland Security, Federal Emergency Management Agency.

[FR Doc. 2011-427 Filed 1-11-11; 8:45 am]

BILLING CODE 9110-21-P